NATIONAL SCIENCE FOUNDATION

National Science Board; Sunshine Act Meetings; Notice

The National Science Board's Task Force on Administrative Burdens, pursuant to NSF regulations (45 CFR part 614), the National Science Foundation Act, as amended (42 U.S.C. 1862n-5), and the Government in the Sunshine Act (5 U.S.C. 552b), hereby gives notice in regard to the scheduling of a teleconference for the transaction of National Science Board business and other matters specified, as follows:

DATE & TIME: Monday, April 22, 2013, 2:30 p.m.-3:30 p.m. EDT.

SUBJECT MATTER: The meeting will include a discussion of the Task Force's Request for Information and ongoing roundtable discussions as well as discussion related to IACUCs and IRBs, the Emerging Frontiers in Research and Innovation (EFRI) Program, and the Office of Management and Budget's recent Proposed Guidance for Federal awards.

STATUS: Open.

LOCATION: This meeting will be held by teleconference at the National Science Board Office, National Science Foundation, 4201 Wilson Blvd., Arlington, VA 22230. A public listening room will be available for this teleconference meeting. All visitors must contact the Board Office [call 703-292-7000 or email to nationalsciencebrd@nsf.gov] at least 24 hours prior to the teleconference for the public room number. All visitors must report to the NSF visitor desk located in the lobby at the 9th and N. Stuart Streets entrance on the day of the teleconference to be directed to the public listening room.

UPDATES & POINT OF CONTACT: Please refer to the National Science Board Web site for additional information and schedule updates. This information which may be found at http://www.nsf.gov/nsb/notices/. Point of contact for the meeting is John Veysey, who can be reached at the telephone number or email listed above.

Ann Bushmiller,
Senior Counsel to the National Science Board.

[FR Doc. 2013-09244 Filed 4-16-13; 4:15 pm]

BILLING CODE 7555-01-P